INTERNATIONAL TRADE COMMISSION

[Investigation No. 337-TA-853]

Certain Wireless Consumer Electronics Devices and Components Thereof; Institution of Investigation Pursuant to 19 U.S.C. 1337

AGENCY: U.S. International Trade Commission.

ACTION: Notice.

SUMMARY: Notice is hereby given that a complaint was filed with the U.S. International Trade Commission on July 24, 2012, under section 337 of the Tariff Act of 1930, as amended, 19 U.S.C. 1337, on behalf of Technology Properties Limited LLC of Cupertino, California, Phoenix Digital Solutions LLC of Cupertino, California, and Patriot Scientific Corporation of Carlsbad, California. The complaint alleges violations of section 337 based upon the importation into the United States, the sale for importation, and the sale within the United States after importation of certain wireless consumer electronics devices and components thereof by reason of infringement of certain claims of U.S. Patent No. 5,809,336 (“the '336 patent”). The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on August 20, 2012, Ordered That—

(1) Pursuant to subsection (b) of section 337 of the Tariff Act of 1930, as amended, an investigation be instituted to determine whether there is a violation of subsection (a)(1)(B) of section 337 in the importation into the United States, the sale for importation, or the sale within the United States after importation of certain wireless consumer electronics devices and components thereof that infringe one or more of claims 1, 6, 7, 9-11, and 13-16 of the '336 patent, and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors, 19 U.S.C. 1337(d)(1), (f)(1), (g)(1);

(3) For the purpose of the investigation so instituted, the following are hereby named as parties upon which this notice of investigation shall be served:

(a) The complainants are:

Technology Properties Limited LLC, 20883 Stevens Creek Blvd., Suite 100, Cupertino, CA 95014.

Phoenix Digital Solutions LLC, 20883 Stevens Creek Blvd., Suite 100, Cupertino, CA 95014.

Patriot Scientific Corporation, 701 Palomar Airport Rd., Suite 170, Carlsbad, CA 92011.

(b) The respondents are the following entities alleged to be in violation of section 337, and are the parties upon which the complaint is to be served:

Acer Inc., 8F, No. 88, Section 1, Hsin Tai Wu Road, Hsichih 221, Taipei Hsien, Taiwan.

Acer America Corporation, 333 West San Carlos Street, San Jose, CA 95110.

Amazon.com, Inc., 410 Terry Avenue North, Seattle, WA 98109-5210.

Barnes & Noble, Inc., 122 Fifth Avenue, New York, NY 10011.

Garmin Ltd., Mühlentalstrasse 2, 8200 Schaffhausen, Switzerland.

Garmin International, Inc., 1200 East 151st Street, Olathe, KS 66062.

Garmin USA, Inc., 1200 East 151st Street, Olathe, KS 66062.

HTC Corporation, 23 Xinghua Road, Taoyuan 330, Taiwan.

HTC America, 13920 SE Eastgate Way, Suite #200, Bellevue, WA 98005.

Huawei Technologies Co., Ltd., Huawei Industrial Base, Bantian Longgang, Shenzhen 518129, China.

Huawei North America, 5700 Tennyson Parkway, Suite 500, Plano, TX 75024.

Kyocera Corporation, 6 Takeda Tobadono-cho, Fushmi-ku, Kyoto 612-8501, Japan.

Kyocera Communications, Inc., 9520 Towne Centre Drive, San Diego, CA 92121.

LG Electronics, Inc., LG Twin Towers, 20 Yeouido-dong, Yeongdeungpo-gu, Seoul 150-721, Republic of Korea.

LG Electronics U.S.A., Inc., 1000 Sylvan Avenue, Englewood Cliffs, NJ 07632.

Nintendo Co., Ltd., 11-1 Kamitoba Hokotate-Cho, Minami-Ku, Kyoto 601-8501, Japan.

Nintendo of America, Inc., 4600 150th Avenue NE., Redmond, WA 98052.

Novatel Wireless, Inc., 9645 Scranton Road Suite #205, San Diego, CA 92121.

Samsung Electronics Co., Ltd., Samsung Main Building, 250, Taepyeongno 2-ga, Jung-gu, Seoul 100-742, Republic of Korea.

Samsung Electronics America, Inc., 105 Challenger Road, Ridgefield Park, NJ 07660.

Sierra Wireless, Inc., 13811 Wireless Way, Richmond, British Columbia V6V 3A4, Canada.

Sierra Wireless America, Inc., 2200 Faraday Avenue, Suite 150, Carlsbad, CA 92008.

ZTE Corporation, ZTE Plaza, Keji South Road, Hi & New Tech Industrial Park, Nanshan District, Shenzhen 518057, China.

ZTE (USA) Inc., 2425 N. Central Expressway, Suite 323, Richardson, TX 75080.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: Tuesday, August 21, 2012.
By order of the Commission.
Lisa R. Barton,
Secretary to the Commission.

[FR Doc. 2012-20835 Filed 8-23-12; 8:45 am]

BILLING CODE 7020-02-P